DEPARTMENT OF ENERGY

[Docket No. RP00-115-001]

Federal Energy Regulatory Commission Panhandle Eastern Pipe Line Company; Notice of Filing of Reconciliation Report

March 23, 2000.

Take notice that on March 10, 2000, Panhandle Eastern Pipe Line Company (Panhandle) tendered for filing its reconciliation report in accordance with Article I, Section 3(e)(ii) of the April 18, 1996 Stipulation and Agreement in Docket No. RP95-411-000 (Settlement) and the Commission's letter order issued December 17, 1999 in Docket No. RP00-115-000.

Panhandle states that pursuant to the Commission's December 30, 1998 order in Docket No. RP99-175-000 it established the Second Carryover GSR Settlement Interruptible Rate Component to be effective during the twelve month period commencing January 1, 1999. On December 1, 1999 Panhandle filed in Docket No. RP00-115-000 to suspend the Second Carryover GSR Settlement Interruptible Rate Component applicable to Rate Schedules IT and EIT effective January 1, 2000. The Commission's letter order issued December 17, 1999 approving the filing in Docket No. RP00-115-000 required Panhandle to file a reconciliation report by March 31, 2000.

Panhandle states that copies of its filing are being served on all to the proceedings in Docket No. RP95-411-000.

Any person desiring to protest said filing should file a protest with the Federal Energy Regulatory Commission, 888 First Street, N.E., Washington, D.C. 20426, in accordance with Section 385.211 of the Commission's Rules and Regulations. All such protests must be filed on or before March 30, 2000. Protests will considered by the Commission in determining the appropriate action to be taken, but will not serve to make protestants parties to the proceedings. Copies of this filing are on file with the Commission and are available for public inspection in the Public Reference Room. This filing may be viewed on the wet at http://www.ferc.fed.us/online/rims.htm (call 202-208-2222 for assistance).

Linwood A. Watson, Jr.,
Acting Secretary.

[FR Doc. 00-7675 Filed 3-28-00; 8:45 am]

BILLING CODE 6717-01-M